DEPARTMENT OF COMMERCE

National Oceanic and Atmospheric Administration

50 CFR Part 679

[Docket No. 200227-0066; RTID 0648-XA385]

Fisheries of the Exclusive Economic Zone Off Alaska; Several Groundfish Species in the Bering Sea and Aleutian Islands Management Area

AGENCY: National Marine Fisheries Service (NMFS), National Oceanic and Atmospheric Administration (NOAA), Commerce.

ACTION: Temporary rule; apportionment of reserves; request for comments.

SUMMARY: NMFS apportions amounts of the non-specified reserve to the initial total allowable catch (ITAC) of Aleutian Islands (AI) Greenland turbot, AI trawl sablefish, Bering Sea (BS) trawl sablefish, Bering Sea and Eastern Aleutian Islands (BS/EAI) blackspotted/rougheye rockfish, Bering Sea and Aleutian Islands (BSAI) Alaska plaice, BSAI Kamchatka flounder, BSAI octopuses, and BSAI “other flatfish”. This action is necessary to allow the fisheries to continue operating. It is intended to promote the goals and objectives of the fishery management plan for the BSAI management area.

DATES: Effective August 14, 2020, through 2400 hrs, Alaska local time, December 31, 2020. Comments must be received at the following address no later than 4:30 p.m., Alaska local time, August 31, 2020.

ADDRESSES: Submit your comments, identified by docket number NOAA-NMFS-2019-0074, by either of the following methods:

• Electronic Submission: Submit all electronic public comments via the Federal e-Rulemaking Portal. Go to https://www.regulations.gov/docket?D=NOAA-NMFS-2019-0074 click the “Comment Now!” icon, complete the required fields, and enter or attach your comments.

• Mail: Submit written comments to Glenn Merrill, Assistant Regional Administrator, Sustainable Fisheries Division, Alaska Region NMFS. Mail comments to P.O. Box 21668, Juneau, AK 99802-1668.

Instructions: NMFS may not consider comments if they are sent by any other method, to any other address or individual, or received after the comment period ends. All comments received are a part of the public record and NMFS will post the comments for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Steve Whitney, 907-586-7228.

SUPPLEMENTARY INFORMATION: NMFS manages the groundfish fishery in the BSAI exclusive economic zone according to the Fishery Management Plan for Groundfish of the BSAI Management Area (FMP) prepared by the North Pacific Fishery Management Council under authority of the Magnuson-Stevens Fishery Conservation and Management Act. Regulations governing fishing by U.S. vessels in accordance with the FMP appear at subpart H of 50 CFR part 600 and 50 CFR part 679.

The 2020 ITAC of AI Greenland turbot was established as 149 metric tons (mt), the 2020 ITAC of AI trawl sablefish was established as 433 mt, the 2020 ITAC of BS trawl sablefish was established as 791 mt, the 2020 ITAC of BS/EAI blackspotted/rougheye rockfish was established as 72 mt, the 2020 ITAC of BSAI Alaska plaice was established as 14,450 mt, the 2020 ITAC of BSAI Kamchatka flounder was established as 5,780 mt, the 2020 ITAC of BSAI octopuses was established as 234, and the 2020 ITAC of BSAI “other flatfish” was established as 3,400 mt by the final 2020 and 2021 harvest specifications for groundfish of the BSAI (85 FR 13553, March 9, 2020). In accordance with § 679.20(a)(3) the Regional Administrator, Alaska Region, NMFS, has reviewed the most current available data and finds that the ITACs for AI Greenland turbot, AI trawl sablefish, BS trawl sablefish, BS/EAI blackspotted/rougheye rockfish, BSAI Alaska plaice, BSAI Kamchatka flounder, BSAI octopuses, and BSAI “other flatfish” need to be supplemented from the non-specified reserve to promote efficiency in the utilization of fishery resources in the BSAI and allow fishing operations to continue.

Therefore, in accordance with § 679.20(b)(3), NMFS apportions from the non-specified reserve of groundfish to ITACs in the BSAI management area as follows: 550 mt to AI Greenland turbot, 38 mt to AI trawl sablefish, 70 mt to BS trawl sablefish, 40 mt to BS/EAI blackspotted/rougheye rockfish, 3,000 mt to BSAI Alaska plaice, 800 mt to BSAI Kamchatka flounder, 450 mt to BSAI octopuses, and 200 mt to BSAI “other flatfish.” These apportionments are consistent with § 679.20(b)(1)(i) and do not result in overfishing of any target species because the revised ITACs and total allowable catches (TACs) are equal to or less than the specifications of the acceptable biological catch in the final 2020 and 2021 harvest specifications for groundfish in the BSAI (85 FR 13553, March 9, 2020).

The harvest specification for the 2020 ITACs and TACs included in the harvest specifications for groundfish in the BSAI are revised as follows: 699 mt for AI Greenland turbot, 471 mt for AI trawl sablefish, 861 mt for BS trawl sablefish, 112 mt for BS/EAI blackspotted/rougheye rockfish, 17,450 mt for BSAI Alaska plaice, 6,580 mt for BSAI Kamchatka flounder, 684 mt for BSAI octopuses, and 3,600 mt for BSAI “other flatfish.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay the apportionment of the non-specified reserves of groundfish to the AI Greenland turbot, AI trawl sablefish, BS trawl sablefish, BS/EAI blackspotted/rougheye rockfish, BSAI Alaska plaice, BSAI Kamchatka flounder, BSAI octopuses, and BSAI “other flatfish”. NMFS was unable to publish a notice providing time for public comment because the most recent, relevant data only became available as of August 7, 2020.

Under § 679.20(b)(3)(iii), interested persons are invited to submit written comments on this action (see ADDRESSES) until August 31, 2020.

Authority: 16 U.S.C. 1801 et seq.

Dated: August 12, 2020.
Kelly Denit,
Director, Office of Sustainable Fisheries, National Marine Fisheries Service.

[FR Doc. 2020-17929 Filed 8-14-20; 8:45 am]

BILLING CODE 3510-22-P